FEDERAL MARITIME COMMISSION

Meetings; Sunshine Act

Agency Holding the Meeting: Federal Maritime Commission.

Time and Date: January 14, 2009-10 a.m.

Place: 800 North Capitol Street, NW., First Floor Hearing Room, Washington, DC.

Status: A portion of the meeting will be in Open Session and the remainder of the meeting will be in Closed Session.

Matters To Be Considered:

Open Session

(1) Budget Status Report.

(2) Docket No. 02-15 Passenger Vessel Financial Responsibility—Request of Commissioner Brennan.

Closed Session

(1) FMC Agreement No. 201199: Port Fee Services Agreement.

(2) FMC Agreement No. 011223-043: Transpacific Stabilization Agreement.

(3) Staff Briefing Regarding Global Economic Downturn and Potential Impact on Stakeholders.

(4) Internal Administrative Practices and Personnel Matters.

Contact Person for More Information: Karen V. Gregory, Secretary, (202) 523-5725.

Karen V. Gregory,
Secretary.

[FR Doc. E9-408 Filed 1-7-09; 4:15 pm]

BILLING CODE 6730-01-P